FEDERAL COMMUNICATIONS COMMISSION

47 CFR Part 1

[MD Docket 20-270; FR ID 87861]

Schedule of Application Fees of the Commission's Rules; Amendment

AGENCY: Federal Communications Commission.

ACTION: Correcting amendment.

SUMMARY: With this amendment, the Federal Communications Commission (Commission) amends its rules to correct an inadvertent error in the Application Fee Report and Order, published in the Federal Register on March 19, 2021.

DATES: Effective July 6, 2022.

FOR FURTHER INFORMATION CONTACT: Roland Helvajian, Office of the Managing Director at (202) 418-0444.

SUPPLEMENTARY INFORMATION: On December 29, 2020, the Commission released the Application Fee Report and Order, and published a final rule in the Federal Register on March 19, 2021, at 86 FR 15026. The Application Fee Report and Order, among other things, erroneously omitted the fee for earth station applications for special temporary authority (STA). Subsequently, on October 25, 2021, the Commission released an Erratum, FCC-21-110, which among other things, corrected this omission by making changes to the Application Fee Report and Order, including revising the Commission's rules, specifically 47 CFR 1.1107, to revise the application fee schedule table to incorporate the fee for earth station applications for special temporary authority, and by revising the wording in specific instances from “transaction” to “application.” In this document, the Commission amends the following:

1. The second to the last sentence in paragraph 144 is amended to read as follows:

“We assess this pro forma application fee on a per application basis because the costs involved with processing these applications typically are incurred per application due to the pro forma nature of these applications.”

2. The Table in paragraph 152 is amended to read as follows:

We adopt the following cost-based fees for earth stations.

Application | New fee
Fixed or Temporary Fixed Transmit or Transmit/Receive Earth Stations, per Call Sign:
Initial application, single site | $360.
Initial application, multiple sites | $6,515.
Receive Only Earth Stations License or Registration, per call sign or registration:
Initial application or registration, single site, per site | $175.
Initial application or registration, multiple sites, per system | $465.
Blanket Earth Stations, per call sign:
Initial Application for Blanket Authorization | $360.
Mobile Earth Stations, per call sign:
Initial Application for Blanket Authorization, per system | $815.
Amendments to Earth Station Applications or Registrations, per call sign:
Single Site | $430.
Multiple Sites | $630.
Other Earth Station Applications:
Modification of Earth Station Licenses or Registrations, per call sign | $545.
Assignment or Transfer of Control of Earth Station Licenses or Registrations | $745 (first call sign; $400 for each additional).
Pro Forma Assignment or Transfer of Control of Earth Station Licenses or Registrations, per application | $400.
Earth Station Special Temporary Authority, per call sign | $195.
Renewals of Earth Station Licenses, per Call Sign:
Single Site | $115.
Multiple Sites | $145.
Requests for U.S. Market for Non-U.S. Licensed Space Stations, per request | See the fee categories for Space Stations.

3. The last sentence in paragraph 167 is amended to read as follows:

“We apply this pro forma fee on a per application basis because, as discussed in the case of earth station application, the costs involved with processing these applications typically are incurred by application rather than by call sign.”

4. The fee table in paragraph 168 is amended to read as follows:

Filing category | New fee
Space Stations, Geostationary Orbit:
Application for Authority to Construct, Deploy, and Operate, per satellite | $3,555.
Application for Authority to Operate, per satellite | $3,555.
Space Stations, Non-Geostationary Orbit:
Application for Authority to Construct, Deploy, and Operate, per system of technically identical satellites, per Call Sign | $15,050.
Application for Authority to Operate, per system of technically identical satellites, per Call Sign | $15,050.
Space Stations, Petition for Declaratory Ruling for a Foreign Space Station to Access the United States Market:
GSO | $3,555.
NGSO | $15,050.
Small satellite NGSO | $2,175.
Space Stations, Small Satellites, or Small Spacecraft:
Application to Construct, Deploy, and Operate, per Call Sign | $2,175.
Space Stations, Other Applications:
Space Stations, Amendments, per Call Sign | $1,620.
Space Stations, Modifications, per Call Sign | $2,495.
Space Stations, Assignment or Transfer of Control | $745 (first call sign; $400 for each additional).
Space Stations, Pro Forma Assignment or Transfer of Control, per Application | $400.
Space Stations, Special Temporary Authority, per Call Sign | $1,435.

List of Subjects in 47 CFR Part 1

Administrative practice and procedure.

Federal Communications Commission.
Marlene Dortch,
Secretary.

Part 1 of Title 47 of the Code of Federal Regulations is amended by making the following correcting amendments:

PART 1—PRACTICE AND PROCEDURE

1. The authority citation for part 1 continues to read as follows:

Authority: 47 U.S.C. chs. 2, 5, 9, 13; 28 U.S.C. 2461, unless otherwise noted.

1. Amend § 1.1107 by revising table 1 to read as follows:

§ 1.1107 Schedule of charges for applications and other filings for international services.

* * * * *

Table 1 to § 1.1107
| New fee
Cable landing license, per application:
New License | $3,835.
Assignment/Transfer of Control | $1,230.
Pro Forma Assignment/Transfer of Control | $400.
Foreign Carrier Affiliation Notification | $495.
Modification | $1,230.
Renewal | $2,440.
Special Temporary Authority | $675.
Waiver | $335.
International Section 214 Authorization, per Application:
New Authorization | $785.
Assignment/transfer of control | $1,230.
Pro forma Assignment/transfer of control | $400.
Foreign Carrier Affiliation Notification | $495.
Modification | $675.
Special Temporary Authority | $675.
Waiver | $335.
Discontinuance of services | $335.
Section 310(b) Foreign Ownership, per Application:
Petition for Declaratory Ruling | $2,485.
Waiver | $335.
Recognized Operating Agency per Application:
Application for ROA Status | $1,145.
Waiver | $335.
Data Network Identification Code (DNIC), per Application:
New DNIC | $785.
Waiver | $335.
International Signaling Point Code (ISPC), per Application:
New ISPC | $785.
Transfer of Control | $675.
Modification | $675.
Waiver | $335.
Satellite Earth Station Applications:
Fixed or Temporary Fixed Transmit or Transmit/Receive Earth Stations, per Call Sign:
Initial application, single site | $360.
Initial application, multiple sites | $6,515.
Receive Only Earth Stations License or Registration, per Call Sign or Registration:
Initial application or registration, single site | $175.
Initial application or registration, multiple sites, per system | $465.
Initial application for Blanket Earth Stations, per Call Sign | $360.
Mobile Earth Stations Applications, per Call Sign:
Initial Application for Blanket Authorization, per system, per Call Sign | $815.
Amendments to Earth Station Applications or Registrations per Call Sign:
Single Site | $430.
Multiple Sites | $630.
Earth Stations, Other Applications:
Applications for Modification of Earth Station Licenses or Registrations, per Call Sign | $545.
Assignment or Transfer of Control of Earth Station Licenses or Registrations, per Call Sign | $745 (first call sign). $400 (for each additional call sign).
Pro Forma Assignment or Transfer of Control of Earth Station Licenses or Registrations, per Application | $400.
Earth Station Special Temporary Authority, per call sign | $195.
Earth Station Renewals of Licenses, per Call Sign:
Single Site | $115.
Multiple Sites | $145.
Earth Station Requests for U.S. Market Access for Non-U.S. Licensed Space Stations | See Space Stations.
Satellite Space Station Applications:
Space Stations, Geostationary Orbit:
Application for Authority to Construct, Deploy, and Operate, per satellite | $3,555.
Application for Authority to Operate, per satellite | $3,555.
Space Stations, Non-Geostationary Orbit:
Application for Authority to Construct, Deploy, and Operate, per system of technically identical satellites, per Call Sign | $15,050.
Application for Authority to Operate, per system of technically identical satellites, per Call Sign | $15,050.
Space Stations, Petition for Declaratory Ruling for Foreign-Licensed Space Station to Access the U.S. Market:
Geostationary Orbit, per Call Sign | $3,555.
Non-Geostationary Orbit, per Call Sign | $15,050.
Small Satellites, per Call Sign | $2,175.
Space Stations, Small Satellites, or Small Spacecraft:
Application to Construct, Deploy, and Operate, per Call Sign | $2,175.
Other Applications for Space Stations:
Space Stations, Amendments, per Call Sign | $1,620.
Space Stations, Modifications, per Call Sign | $2,495.
Space Stations, Assignment or Transfer of Control, per Call Sign | $745 (first call sign). $400 (for each additional call sign).
Space Stations, Pro Forma Assignment or Transfer of Control, per Application | $400.
Space Stations, Special Temporary Authority, per Call Sign | $1,435.
Unified Space Station and Earth Station Initial Application, Amendment, and Modification:
Unified Space Station and Earth Station Initial Application, Amendment, and Modification | Applicable Space Station Fee + Applicable Earth Station Fee.
International Broadcast Stations (IBS) Applications:
New Construction Permit | $4,010.
Construction Permit Modification | $4,010.
New License | $905.
License Renewal | $230.
Frequency Assignment | $80.
Transfer of Control | $595.
Special Temporary Authority | $395.
Permit to Deliver Programs to Foreign Broadcast Stations under Section 325(c) Applications:
New License | $360.
License Modification | $185.
License Renewal | $155.
Special Temporary Authority | $155.
Transfer of Control | $260.

[FR Doc. 2022-11732 Filed 6-3-22; 8:45 am]

BILLING CODE 6712-01-P